Title 3—

The President

Presidential Determination No. 2004-10 of December 6, 2003

Presidential Determination on Waiver of Conditions on Obligation and Expenditure of Funds for Planning, Design, and Construction of a Chemical Weapons Destruction Facility in Russia

Memorandum for the Secretary of State

Consistent with the authority vested in me by section 1306 of the Department of Defense Authorization Act for Fiscal Year 2004 (Public Law 108-136) (the “Act”), I hereby certify that waiving the conditions described in section 1305 of the National Defense Authorization Act for Fiscal Year 2000 (Public Law 106-65) is important to the national security interests of the United States, and include herein, for submission to the Congress, the statement, justification, and plan described in section 1306 of the Act.

You are authorized and directed to transmit this certification, including the statement, justification, and plan to the Congress and to arrange for its publication of this determination in the Federal Register.

B

THE WHITE HOUSE,

Washington, December 6, 2003.

[FR Doc. 03-31589

Filed 12-22-03; 8:45 am]

Billing code 4710-10-P